DEPARTMENT OF THE INTERIOR

Fish and Wildlife Service

[FWS-R1-ES-2010-N185; 10120-1112-0000-F2]

Availability of a Draft Environmental Assessment and Habitat Conservation Plan, and Receipt of Application for an Incidental Take Permit From Benton County, OR

AGENCY: Fish and Wildlife Service, Interior.

ACTION: Notice of application and availability of documents for public comment.

SUMMARY: We, the U.S. Fish and Wildlife Service (Service), advise the public that Benton County, Oregon, has submitted an application to the Service for an incidental take permit (permit) under the Endangered Species Act of 1973, as amended (ESA). Included with the application is a habitat conservation plan (HCP) and a proposed implementing agreement (IA). We also announce the availability of a draft environmental assessment (EA) under the authority of the National Environmental Policy Act (NEPA; 42 U.S.C. 4371 et seq.).

DATES: We must receive any written comments on the draft EA, HCP, and IA from interested parties no later than November 1, 2010.

ADDRESSES: Documents: The draft EA, HCP, and IA are available electronically on the World Wide Web at http://www.fws.gov/oregonfwo/ToolsForLandowners/HabitatConservationPlans/. Alternatively, you may request documents and information by writing to Mikki Collins, U.S. Fish and Wildlife Service, 2600 SE. 98th Avenue, Suite 100, Portland, OR 97266; or by faxing her at (503) 231-6195.

Comments: Submit comments by e-mail to OFWOcomment@fws.gov; in the subject line, include the identifier “Benton County HCP.” Comments and materials we receive will be available for public inspection, by appointment, during normal business hours at the above address.

FOR FURTHER INFORMATION CONTACT: Mikki Collins, at the address or phone listed above.

SUPPLEMENTARY INFORMATION: In accordance with section 10(a)(2)(A) of the ESA (U.S.C. 1531 et seq.), Benton County has prepared an HCP designed to minimize and mitigate take of the proposed covered species. The permit application is related to county construction activities, road maintenance, utilities construction, water system management, and prairie habitat management activities in Benton County, Oregon.

We furnish this notice to allow other agencies and the public an opportunity to review and comment on these documents. All comments we receive will become part of the public record and will be available for review pursuant to section 10(c) of the ESA.

Section 9 of the ESA and Federal regulations prohibit the “taking” of a species listed as endangered or threatened. The term “take” is defined under the ESA to mean to harass, harm, pursue, hunt, shoot, wound, kill, trap, capture, or collect, or to attempt to engage in any such conduct. “Harm” is defined to include significant habitat modification or degradation where it actually kills or injures wildlife by significantly impairing essential behavioral patterns, including breeding, feeding, and sheltering.

We may issue permits, under limited circumstances, to take listed species incidental to, and not the purpose of, otherwise lawful activities. Our regulations governing permits for endangered species are promulgated in 50 CFR 17.22, and regulations governing permits for threatened species are promulgated in 50 CFR 17.32.

The area proposed to be covered by the permit consists of private and non-Federal public lands in Benton County, and encompasses approximately 7,651 ha (18,906 ac). Other entities that are considered cooperators in the HCP due to their land ownership and management activities include the City of Corvallis, Oregon Department of Transportation, Oregon State University, and the Greenbelt Land Trust. Approval of the HCP would allow us to issue a permit to Benton County that would authorize incidental take coverage and/or regulatory assurances for potential impacts on five federally listed species: Fender's blue butterfly (Icaricia icarioides fenderi) (endangered), Kincaid's lupine (Lupinus sulphureus ssp. Kincaidii) (threatened), Willamette daisy (Erigeron decumbens var. decumbens) (endangered), Bradshaw's lomatium (Lomatium bradshawii) (endangered), and the Nelson's checkermallow (Sidalcea nelsoniana) (threatened). The permit would also cover one candidate species for listing—Taylor's checkerspot butterfly (Euphydryas editha taylorii)—and one species of concern—the peacock larkspur (Delphinium pavonaceum). Although take of plant species is not prohibited under the ESA and therefore cannot be authorized under an incidental take permit, plant species are proposed to be included on the permit in recognition of the conservation benefits provided to them under the HCP.

All seven species identified above will be covered under the permit on county-owned lands. The Fender's blue butterfly and the five plant species will be covered on land owned or managed by the City of Corvallis, Oregon State University, and the Oregon Department of Transportation. The Taylor's checkerspot is not known to occur on these properties. The Fender's blue butterfly will be the only covered species under the permit on the remaining private lands. The permittee would receive assurances under the Service's “No Surprises” regulation (50 CFR 17.22(b)(5) and 17.32(b)(5)) for all species included on the incidental take permit. For any currently unlisted covered animal species, take authorization would become effective concurrent with their listing, should the species be listed under the ESA during the permit term. Benton County has requested a permit term of 50 years.

Potential impacts are anticipated to result from (1) home, farm, and forest-related construction and utility construction/maintenance on private lands; (2) public service facility construction; (3) transportation and work within road rights of way; (4) water and wastewater management; (5) habitat restoration, enhancement, and management (including monitoring and plant material collection) activities (both as a HCP mitigation measure and as a conservation activity at parks, natural areas, and open spaces); (6) agricultural activities; and (7) emergency response activities on non-Federal public lands and lands owned or held under conservation easement by specific conservation organizations. Under the permit, Benton County would have authorization to issue certificates of inclusion under the ESA permit to non-Federal landowners needing a County permit or agricultural building authorization.

The HCP includes estimates of permanent impacts over the 50-year permit term to include: the loss of 2.1 hectares (5.2 acres) of Fender's blue butterfly nectar habitat; 57 square meters (.01 acres) of Taylor's checkerspot habitat; 410 square meters (4,410 square feet) of Kincaid's lupine foliar cover; 222 Nelson's checkermallow plants; 2 Bradshaw's lomatium plants; 1 Willamette daisy plant; and 56 Peacock larkspur plants. A primary conservation measure of the HCP is the designation of over 200 hectares (500 acres) of Prairie Conservation Areas where habitat restoration and enhancement activities for the covered species will occur. The HCP also includes measures to avoid and minimize incidental take of the covered species.

We prepared a draft EA that analyzed the potential effects of implementing two alternatives on the human environment: A no-action alternative and a proposed action. Five additional alternatives were explored but omitted from further analysis.

We invite the public to comment on the HCP, draft EA, and draft IA during the 30-day public comment period (see DATES). Please direct comments to the contact listed in the ADDRESSES section, and any questions to the contact listed in the FOR FURTHER INFORMATION CONTACT section. Before including your address, phone number, e-mail address, or other personal identifying information in your comment, you should be aware that your entire comment—including your personal identifying information—may be made publicly available at any time. While you can ask us in your comment to withhold your personal identifying information from public review, we cannot guarantee that we will be able to do so.

We provide this notice under ESA and NEPA regulations. We will evaluate the application, associated documents, and comments submitted thereon to determine whether the application meets the requirements of the ESA and NEPA.

Dated: September 1, 2010.
Theresa E. Rabot,
Deputy Regional Director, Fish and Wildlife Service, Region 1, Portland, Oregon.

[FR Doc. 2010-24730 Filed 9-30-10; 8:45 am]

BILLING CODE 4310-55-P